DEPARTMENT OF JUSTICE

Notice of Lodging of Proposed Consent Decree With American Municipal Power, Inc. Under the Clean Air Act

Pursuant to 28 CFR 50.7, notice is hereby given that on May 18, 2010, a proposed Consent Decree in United States of America v. American Municipal Power, Inc. (“AMP”), Civil Action No. 2:10-cv-438, was lodged with the United States District Court for the Southern District of Ohio.

The Consent Decree addresses alleged violations of the Clean Air Act, 42 U.S.C. 7401-7671 et seq., and state and federal implementing regulations, which occurred at the R.H. Gorsuch Generating Station, a coal-fired power plant owned and operated by AMP in Marietta, Ohio. The alleged violations arise from the construction of modifications at the power plant and operation of the plant in violation of the Prevention of Significant Deterioration (PSD) and Nonattainment New Source Review (NNSR) provisions of the Clean Air Act, 42 U.S.C. 7475, 7503, the New Source Performance Standards provisions of the Clean Air Act, 42 U.S.C. 7411, Title V of the Act, 42 U.S.C. 7661 et seq., and the Title V permit for the plant. The complaint alleges that AMP failed to obtain appropriate permits and failed to install and apply required pollution controls to control emissions of various air pollutants.

The proposed Consent Decree would resolve the claims alleged in the Complaint filed in this matter in exchange for AMP's commitment to permanently shutdown and retire all four units at the Gorsuch Station, pay a $850,000 civil penalty, and spend $15 million on energy efficiency projects to mitigate the alleged adverse effects of its past violations.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. American Municipal Power, Inc., D.J. Ref. 90-5-2-1-09886

The Consent Decree may be examined at the Office of the United States Attorney for the Southern District of Ohio, located at 280 North High Street, Columbus, Ohio 43215; or at U.S. EPA Region 5, 77 W. Jackson Blvd., Chicago, Illinois 60604-4590. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.50 (25 cents per page reproduction cost) payable to the U.S. Treasury.

Maureen Katz,
Assistant Chief, Environmental Enforcement Section, Environment and Natural Resources Division.

[FR Doc. 2010-13550 Filed 6-7-10; 8:45 am]

BILLING CODE 4410-15-P